DEPARTMENT OF THE INTERIOR

Fish and Wildlife Service

Information Collection Renewal Submitted to the Office of Management and Budget (OMB) for Approval Under the Paperwork Reduction Act; OMB Control Number 1018-0070; Incidental Take of Marine Mammals During Specified Activities Applications; 50 CFR 18, Subpart J

AGENCY: Fish and Wildlife Service, Interior.

ACTION: Notice; request for comments.

SUMMARY: We, the Fish and Wildlife Service, have submitted the collection of information described below to OMB for approval under the provisions of the Paperwork Reduction Act of 1995. If you wish to obtain the proposed information collection or explanatory materials, contact the Information Collection Clearance Officer at the address or phone number listed below.

DATES: You must submit comments on or before October 22, 2004.

ADDRESSES: Send your comments on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 N. Fairfax Drive, Arlington, VA 22203; (703) 358-2269 (fax); or at hope_grey@fws.gov (e-mail).

FOR FURTHER INFORMATION CONTACT: To request a copy of the information collection request or explanatory information, contact Hope Grey by phone at (703) 358-2482 or by e-mail at hope_grey@fws.gov.

SUPPLEMENTARY INFORMATION: We have submitted a request to OMB to renew approval of the information collection clearance requirements for Incidental Take of Marine Mammals During Specified Activities Applications; 50 CFR 18, subpart J. Currently, we have approval from OMB to collect information under OMB control number 1018-0070. This approval expires on September 30, 2004. We may not conduct or sponsor, and a person is not required to respond to, a collection of information unless we display a currently valid OMB control number. OMB regulations at 5 CFR 1320, which implement provisions of the Paperwork Reduction Act of 1995 (44 U.S.C. 3501 et seq.), require that interested members of the public and affected agencies have an opportunity to comment on information collection and recordkeeping activities (see 5 CFR 1320.8(d)). OMB has up to 60 days to approve or disapprove our information collection request, but their response may be given as early as 30 days after our submittal. Therefore, to ensure consideration, send your comments to OMB by the date listed in the DATES section near the beginning of this notice.

On April 30, 2004, we published in the Federal Register (69 FR 23803) a 60-day notice of our intent to request renewal of this information collection authority from OMB. In that notice, we solicited public comments for 60 days ending on June 29, 2004. We received two comments, both from the same individual, regarding this Federal Register notice. The commenter expressed opposition to use of the term “incidental” and further encouraged the Service to protect all animals. We note the concerns raised by this individual; however, we are required under section 101(a)(5)(A) of the Marine Mammal Protection Act (MMPA) of 1972, as amended (16 U.S.C. 1361 et seq.) to take certain actions with regard to the “incidental taking” of marine mammals. The regulations at 50 CFR 18.27(c) define incidental, but not intentional, taking as, “takings which are infrequent, unavoidable, or accidental. It does not mean that the taking must be unexpected.” We have not made any changes to our information collection as a result of the comments received.

Section 101(a)(5)(A) of the MMPA authorizes the Service to allow the incidental, unintentional take of small numbers of marine mammals during a specified activity (other than commercial fishing) in a specified geographic region. Prior to allowing these takes, we must find that the total of such taking will have a negligible impact on the species or stocks and will not have an unmitigable adverse impact on the availability of the species or stocks for subsistence uses by Alaskan Natives.

The information that we propose to collect will be used to evaluate applications for specific incidental take regulations to determine whether or not such regulations and subsequent Letters of Authorization (LOAs) are consistent with the MMPA and should be issued. The information is needed to help establish the scope of specific incidental take regulations. The information is also required to evaluate the impacts of the activities on the species or stocks of the marine mammals and on the availability of the species or stocks for subsistence uses by Alaskan Natives. The information will enable us to ensure that all available means for minimizing the incidental take associated with a specific activity are considered by applicants.

We estimate that the total annual burden associated with the request will be 2,027 hours. This represents an average annual estimated burden taken over a 3-year period, which includes the 200 hours required to complete the request for specific procedural regulations (68 FR 66744). For each LOA expected to be requested and issued subsequent to issuance of specific procedural regulations, we estimate that 28 hours per project will be invested: 8 hours will be required to complete each request for an LOA, 12 hours will be required for onsite monitoring activities, and 8 hours will be required to complete each final monitoring report. We estimate that 10 companies will be requesting LOAs and submitting monitoring reports annually for each of 7 sites in the region covered by the specific regulations.

Title: Incidental Take of Marine Mammals During Specified Activities applications; 50 CFR 18, subpart J.

OMB Clearance Number: 1018-0070.

Form Number: None.

Frequency of Collection: Semiannual.

Description of Respondents: Oil and gas industry companies.

Total Annual Responses: 141.

Total Annual Burden Hours: 2,027.

We again invite comments on this information collection renewal on: (1) Whether or not this collection of information is necessary for us to properly perform our functions, including whether or not this information will have practical utility; (2) the accuracy of our estimate of burden, including the validity of the methodology and assumptions we use; (3) ways to enhance the quality, utility, and clarity of the information we are proposing to collect; and (4) ways for us to minimize the burden of the collection of information on respondents, including through the use of appropriate automated, electronic, mechanical, or other technological collection techniques or other forms of information technology.

Our practice is to make comments, including names and home addresses of respondents, available for public review during regular business hours. Individual respondents may request that we withhold their home addresses from the record, which we will honor to the extent allowable by law. There may also be limited circumstances in which we would withhold a respondent's identity from the rulemaking record, as allowable by law. If you wish us to withhold your name and/or address, you must state this clearly at the beginning of your comment. We will not consider anonymous comments. We generally make all submissions from organizations or businesses, and from individuals identifying themselves as representatives or officials of organizations or businesses, available for public inspection in their entirety.

Dated: September 3, 2004.
Hope Grey,
Information Collection Clearance Officer, Fish and Wildlife Service.

[FR Doc. 04-21278 Filed 9-21-04; 8:45 am]

BILLING CODE 4310-55-P